DEPARTMENT OF LABOR

Employment and Training Administration

[TA-W-63,878]

Gerber Scientific, Inc., Gerber Scientific International, Inc., South Windsor, CT; Including Employees of Gerber Scientific, Inc., Gerber, Scientific International, Inc., South Windsor, CT, Working in the Following Locations: Ta-W-63,878c, Lexington, MI; Ta-W-63,878d, Liberty, KY; Ta-W-63,878e, Franklin, IN; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 27, 2008, applicable to workers of Gerber Scientific, Inc., South Windsor, Connecticut. The notice was published in the Federal Register on September 12, 2008 (73 FR 53045). The certification was amended on September 19, 2008 to include workers located in Broadway, Virginia and Coraopolis, Pennsylvania. The notice was published in the Federal Register on September 24, 2008 (73 FR 55138).

At the request of the State agency, the Department reviewed the certification for workers of the subject firm. The workers are engaged in the production of computer controlled systems for manufacturing apparel, soft goods, lenses for eyewear and signs.

New information shows that worker separations have occurred involving employees of the South Windsor, Connecticut location of Gerber Scientific, Inc., Gerber Scientific International, Inc. working in Lexington, Michigan; Liberty, Kentucky and Franklin, Indiana. Mr. David Burks, Mr. Mark Lawless and Mr. Steve Peo provided engineering and sales support function services for the production of computer controlled systems for manufacturing apparel, soft goods, lenses for eyewear and signs produced at the South Windsor, Connecticut location of the subject firm.

Information also shows that workers separated from employment at the subject firm had their wages reported under a separate unemployment insurance (UI) tax account for Gerber Scientific International, Inc.

Accordingly, the Department is amending this certification to properly reflect these matters.

The intent of the Department's certification is to include all workers of Gerber Scientific, Inc., Gerber Scientific International, Inc., South Windsor, Connecticut who were adversely affected by increased imports of computer controlled systems for manufacturing apparel, soft goods, lenses for eyewear and signs following a shift in production to China.

The amended notice applicable to TA-W-63,878 is hereby issued as follows:

All workers of Gerber Scientific, Inc., Gerber Scientific International, Inc., South Windsor, Connecticut, (TA-W-63,878), including employees in support of Gerber Scientific, Inc., Gerber Scientific International, Inc., South Windsor, Connecticut, working in Lexington, Michigan (TA-W-63,878C), Liberty, Kentucky (TA-W-63,878D) and Franklin, Indiana (TA-W-63,878E, who became totally or partially separated from employment on or after August 14, 2007, through August 27, 2010, are eligible to apply for adjustment assistance under Section 223 of the Trade Act of 1974, and are also eligible to apply for alternative trade adjustment assistance under Section 246 of the Trade Act of 1974.

Signed at Washington, DC this 29th day of October 2008.
Elliott S. Kushner,
Certifying Officer, Division of Trade Adjustment Assistance.

[FR Doc. E8-26539 Filed 11-6-08; 8:45 am]

BILLING CODE 4510-FN-P